DEPARTMENT OF ENERGY

10 CFR Part 431

[Docket No. EERE-2008-BT-TP-0014]

RIN 1904-AB85

Energy Conservation Program: Energy Conservation Standards for Walk-In Coolers and Freezers; Correction

AGENCY: Office of Energy Efficiency and Renewable Energy, Department of Energy.

ACTION: Final rule; correcting amendments.

SUMMARY: This document makes a correction to the regulations pertaining to the test procedure for walk-in coolers and freezers. The correction addresses an erroneous temperature condition for walk-in freezers.

DATES: Effective Date: June 2, 2011.

FOR FURTHER INFORMATION CONTACT: Mr. Charles Llenza, U.S. Department of Energy, Office of Energy Efficiency and Renewable Energy, Building Technologies Program, EE-2J, 1000 Independence Avenue, SW., Washington, DC 20585-0121. Telephone: (202) 586-2192. E-mail: Charles.Llenza@ee.doe.gov.

In the Office of the General Counsel, contact Mr. Michael Kido, U.S. Department of Energy, Office of the General Counsel, GC-71, 1000 Independence Avenue, SW., Washington, DC 20585-0121. Telephone: (202) 586-5709. E-mail: Michael.Kido@hq.doe.gov.

SUPPLEMENTARY INFORMATION:

I. Background

The Energy Policy and Conservation Act (EPCA), as amended by section 312(c) of the Energy Independence and Security Act (EISA 2007), requires the Department of Energy (DOE) to prescribe a test procedure to measure the energy use of walk-in coolers and freezers (collectively, walk-ins). See 42 U.S.C. 6314(a). DOE recently satisfied this requirement by issuing a final rule establishing a test procedure for manufacturers to use when measuring the energy use of a walk-in unit. See 76 FR 21580 (April 15, 2011).

Since the publication of that rulemaking, it was recently discovered that an error is present in Appendix A of the regulatory text, which governs, among other things, the test conditions for walk-in coolers and freezers. That text, within the context of assessing the long-term thermal resistance of the insulating foam contained in the panel components used to construct a walk-in freezer container, uses, incorrectly and inconsistent with the statute, a prescribed test temperature of 35 °F ± 1 °F for freezers. The temperature that should have been inserted in that provision is 20 °F ± 1 °F. Periods should also have been included after that provision and the one following it that sets the temperature test condition for panels used in coolers. This document corrects these errors.

II. Need for Correction

As published, the current provisions of 10 CFR part 431, Subpart R, Appendix A, include the incorrect testing temperature for manufacturers to use when measuring the long-term insulation performance of the foam insulation used in a walk-in freezer unit. The published temperature, 35 °F ± 1 °F—a temperature that exceeds the safe storage of frozen perishable items—conflicts with the mandatory 20 °F requirement that Congress had prescribed as part of the EISA 2007 amendments governing the testing of insulation foam used in walk-in freezers. See 42 U.S.C. 6314(a)(9)(A)(iii) (indicating that the insulation value of the foam used with walk-in freezers shall be calculated using a temperature of 20 °F). This higher temperature also exceeds the temperature at which a walk-in freezer unit would normally operate. Additionally, the temperature conditions specified throughout the remaining portions of the recently promulgated test procedure for walk-in freezers are consistent with the operation of a freezer and substantially lower than 35 °F. See, e.g. 10 CFR part 431, subpart R, Appendix A, Sec. 5.3(a)(2)(i) (specifying the air temperature for freezer internal cooling conditions at -10 °F). DOE also notes that the preamble to the final rule explained that, consistent with the statute, a 20 °F requirement was being adopted in the regulations when testing the long-term performance of insulating foam for walk-in freezer applications. Another necessary correction to the text is that a period is needed for both conditions to clarify that the two conditions pertain to two situations—one for freezers and one for coolers.

In light of the applicable statutory requirement, the clear inconsistency between the currently published temperature testing condition and the actual temperatures at which the tested products operate, and the fact that DOE specifically stated in the final rule's preamble that the rule would apply a 20 °F requirement for walk-in freezer applications, DOE finds that there is good cause under 5 U.S.C. 553(b)(B) to not provide prior notice and an opportunity for public comment on the changes contained in this document. For the reasons discussed above, providing prior notice and an opportunity for public comment would be unnecessary and contrary to the public interest.

Accordingly, this correction document revises the temperature requirement specified in 10 CFR part 431, subpart R, Appendix A, section 5.2(a)(1)(i) to specify a 20 °F requirement for testing the insulation performance of walk-in freezer insulation foam and adds a period at the end of 10 CFR part 431, subpart R, Appendix A, sections 5.2(a)(1)(i) and 5.2(a)(1)(ii).

List of Subjects in 10 CFR Part 431

Administrative practice and procedure, Energy conservation, Reporting and recordkeeping requirements.

Issued in Washington, DC on May 26, 2011.
Kathleen Hogan,
Deputy Assistant Secretary for Energy Efficiency, Office of Technology Development, Energy Efficiency and Renewable Energy.

For the reasons stated in the preamble, DOE corrects 10 CFR part 431 as set forth below.

PART 431—ENERGY EFFICIENCY PROGRAM FOR CERTAIN COMMERCIAL AND INDUSTRIAL EQUIPMENT

1. The authority citation for part 431 continues to read as follows:

Authority: 42 U.S.C. 6291-6317.

Appendix A [Corrected]

2. In Appendix A to subpart R of part 431, revise sections 5.2(1)(i) and 5.2(1)(ii) to read as follows:

Appendix A to Subpart R of Part 431—Uniform Test Method for the Measurement of Energy Consumption of the Components of Envelopes of Walk-In Coolers and Walk-In Freezers

* * * * *

5.2 Measuring Long Term Thermal Resistance (LTTR) of Insulating Foam

* * * * *

(1) * * *

(i) For freezers: 20 °F ± 1 °F must be used.

(ii) For coolers: 55 °F ± 1 °F must be used.

* * * * *

[FR Doc. 2011-13653 Filed 6-1-11; 8:45 am]

BILLING CODE 6450-01-P